NUCLEAR REGULATORY COMMISSION

[NRC-2013-0089]

mPower™ Design-Specific Review Standard

AGENCY: Nuclear Regulatory Commission.

ACTION: Design-Specific Review Standard (DSRS) for the mPower™ Design; request for comment.

SUMMARY: The U.S. Nuclear Regulatory Commission (NRC) is soliciting public comment on the Design-Specific Review Standard (DSRS) for the mPower™ design (mPower™ DSRS). The purpose of the mPower™ DSRS is to more fully integrate the use of risk insights into the review of a design certification (DC), an early site permit (ESP) or a combined license (COL) that incorporates the mPower™ design.

DATES: Submit comments by August 16, 2013. Comments received after this date will be considered, if it is practical to do so, but the Commission is able to ensure consideration only for comments received on or before this date.

ADDRESSES: You may submit comment by any of the following methods (unless this document describes a different method for submitting comments on a specific subject):

• Federal Rulemaking Web site: Go to http://www.regulations.gov and search for Docket ID NRC-2013-0089. Address questions about NRC dockets to Carol Gallagher; telephone: 301-492-3668; email: Carol.Gallagher@nrc.gov. For technical questions, contact the individual(s) listed in the FOR FURTHER INFORMATION CONTACT section of this document.

• Mail comments to: Cindy Bladey, Chief, Rules, Announcements, and Directives Branch (RADB), Office of Administration, Mail Stop: TWB-05-B01M, U.S. Nuclear Regulatory Commission, Washington, DC 20555-0001.

• Fax comments to: RADB at 301-492-3446.

For additional direction on accessing information and submitting comments, see “Accessing Information and Submitting Comments” in the SUPPLEMENTARY INFORMATION section of this document.

FOR FURTHER INFORMATION CONTACT: Ms. Yanely Malave, Office of New Reactors, U.S. Nuclear Regulatory Commission, Washington, DC 20555-0001; telephone: 301-415-1519 or email at Yanely.Malave@nrc.gov.

SUPPLEMENTARY INFORMATION:

I. Accessing Information and Submitting Comments

A. Accessing Information

Please refer to Docket ID NRC-2013-0089 when contacting the NRC about the availability of information regarding this document. You may access information related to this document, which the NRC possesses and is publicly-available, by the following methods:

• Federal Rulemaking Web site: Go to http://www.regulations.gov and search for Docket ID NRC-2013-0089.

• NRC's Agencywide Documents Access and Management System (ADAMS): You may access publicly-available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced and also in the table included in this notice. The mPower™ DSRS Scope and Safety Review Matrix is available in ADAMS under Accession No. ML13088A252.

• NRC's PDR: You may examine and purchase copies of public documents at the NRC's PDR, Room O1-F21, One White Flint North, 11555 Rockville Pike, Rockville, Maryland 20852.

B. Submitting Comments

Please include Docket ID NRC-2013-0089 in the subject line of your comment submission, in order to ensure that the NRC is able to make your comment submission available to the public in this docket.

The NRC cautions you not to include identifying or contact information that you do not want to be publicly disclosed in your comment submission. The NRC posts all comment submissions at http://www.regulations.gov as well as entering the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment submissions into ADAMS.

II. Further Information

A. Background

In 2010, the Commission provided direction to the staff on the preparation for, and review of, small modular reactor (SMR) applications, with a near-term focus on integral pressurized water reactor (iPWR) designs. The Commission directed the staff to more fully integrate the use of risk insights into pre-application activities and the review of applications and, consistent with regulatory requirements and Commission policy statements, to align the review focus and resources to risk-significant structures, systems, and components and other aspects of the design that contribute most to safety in order to enhance the effectiveness and efficiency of the review process. The Commission directed the staff to develop a design-specific, risk-informed review plan for each SMR design to address pre-application and application review activities. An important part of this review plan is the Design-Specific Review Standard. This DSRS for the mPower™ design is the result of the implementation of the Commission's direction.

B. Design-Specific Review Standard (DSRS) for the mPower™ Design

As part of the mPower™ Design-Specific Review Plan, the Office of New Reactors has issued the mPower™ Design-Specific Review Standard Scope and Safety Review Matrix to reflect the integration of risk insights into the review of applications submitted for the mPower™ DC, and ESPs or COLs that incorporate the mPower™ design under 10 CFR Part 52. The mPower™ DSRS reflects current staff review methods and practices based on the integration of risk insights and, where appropriate, lessons learned from NRC reviews of DC and COL applications completed since the last revision of the Standard Review Plan.

The NRC staff is issuing this notice to solicit public comment on the mPower™ DSRS Scope and Safety Review Matrix (Matrix), and the individual mPower™-specific DSRS sections. Specifically, we request comment on the sufficiency of the proposed mPower™ review scope encompassed by the Matrix, and comment on technical content of the individual mPower™ DSRS sections identified in the table below that were revised or developed to incorporate design-specific review guidance based on features of the mPower™ reactor design. We are not, however, soliciting detailed technical comments on NUREG-0800 Standard Review Plan sections that are designated with the applicability “A) Use SRP Section as-is . . .” in the Matrix unless their adequacy for review of the mPower™ design is in question.

Section | Design-specific review standard title | ADAMS No.
Matrix | mPower™ DSRS Scope and Safety Review Matrix | ML13088A252
2.4.0 | Hydrology Review | ML12355A691
2.4.1 | Hydrologic Description | ML12221A023
2.4.2 | Floods | ML12221A024
2.4.3 | Probable Maximum Flood (PMF) on Streams and Rivers | ML12221A025
2.4.4 | Potential Dam Failures | ML12221A026
2.4.5 | Probable Maximum Surge and Seiche Flooding | ML12221A027
2.4.6 | Probable Maximum Tsunami Flooding | ML12221A028
2.4.7 | Ice Effects | ML12221A017
2.4.9 | Channel Diversions | ML12221A018
2.4.10 | Flooding Protection Requirements | ML12221A019
2.4.12 | Groundwater | ML12221A020
2.4.13 | Accidental Releases of Radioactive Liquid Effluents in Ground and Surface Waters | ML12221A021
2.4.14 | Technical Specifications and Emergency Operation Requirements | ML12221A022
3.2.1 | Seismic Classification | ML12272A013
3.2.2 | System Quality Group Classification | ML12272A015
3.3.1 | Severe Wind Loading | ML12324A156
3.3.2 | Extreme Wind Loads (Tornado and Hurricane Loads) | ML12324A166
3.4.1 | Internal Flood Protection for Onsite Equipment Failure | ML12312A148
3.4.2 | Protection of Structures Against Flood From External Sources | ML12324A190
3.5.1.1 | Internally Generated Missiles (Outside Containment) | ML12313A158
3.5.1.2 | Internally Generated Missiles (Inside Containment) | ML12313A396
3.5.1.3 | Turbine Missiles | ML12272A209
3.5.1.4 | Missiles Generated by Extreme Winds | ML12313A399
3.5.1.5 | Site Proximity Missiles (Except Aircraft) | ML12318A151
3.5.1.6 | Aircraft Hazards | ML12318A198
3.5.2 | Structures, Systems, and Components To Be Protected From Externally Generated Missiles | ML12313A457
3.5.3 | Barrier Design Procedures | ML12222A003
3.6.2 | Determination of Rupture Locations and Dynamic Effects Associated with the Postulated Rupture of Piping | ML12230A013
3.7.1 | Seismic Design Parameters | ML13099A204
3.7.2 | Seismic System Analysis | ML13099A205
3.7.3 | Seismic Subsystem Analysis | ML13099A209
3.8.2 | Steel Containment | ML13099A298
3.8.3 | Concrete and Steel Internal Structures of Steel Containments | ML13099A312
3.8.4 | Other Seismic Category I Structures | ML13099A316
3.8.5 | Foundations | ML13099A319
3.9.1 | Special Topics for Mechanical Components | ML12272A018
3.9.4 | Control Rod Drive Systems | ML12272A020
3.9.5 | Reactor Pressure Vessel Internals | ML12272A077
3.9.6 | Functional Design, Qualification, and Inservice Testing Programs for Pumps, Valves, and Dynamic Restraints | ML12272A217
3.11 | Environmental Qualification of Mechanical and Electrical Equipment | ML12277A018
3.13 | Threaded Fasteners—ASME Code Class 1, 2, and 3 | ML12272A214
BTP 3-4 | Postulated Rupture Locations in Fluid System Piping Inside and Outside Containment | ML12272A102
4.2 | Fuel System Design | ML12235A168
4.3 | Nuclear Design | ML12353A188
4.4 | Thermal and Hydraulic Design | ML12319A580
4.5.1 | Control Rod Drive Structural Materials | ML12326A740
4.5.2 | Reactor Internal and Core Support Structure Materials | ML12272A006
4.6 | Functional Design of Control Rod Drive System | ML12353A182
5.2.1.1 | Compliance With the Codes and Standards Rule, 10 CFR 50.55a | ML12272A091
5.2.1.2 | Applicable Code Cases | ML12272A096
5.2.3 | Reactor Coolant Pressure Boundary Materials | ML12272A007
5.2.5 | Reactor Coolant Pressure Boundary Leakage Detection | ML12313A468
5.3.1 | Reactor Vessel Materials | ML12272A008
5.3.2 | Pressure-Temperature Limits, Upper-shelf Energy, and Pressurized Thermal Shock | ML12272A009
5.3.3 | Reactor Vessel Integrity | ML12272A010
5.4.2.1 | Steam Generator Materials | ML12272A244
5.4.2.2 | Steam Generator Program | ML12272A245
5.4.7 | Residual Heat Removal (RHR) System | ML12319A582
BTP 5-4 | Design Requirements of the Residual Heat Removal System | ML12275A020
6.1.1 | Engineered Safety Features Materials | ML12276A107
6.1.2 | Protective Coating Systems (Paints)—Organic Materials | ML12272A246
6.2.1 | Containment Functional Design | ML12276A117
6.2.1.1 | mPower iPWR Containment | ML12227A377
6.2.1.2 | Subcompartment Analysis | ML12230A014
6.2.1.3 | Mass and Energy Release Analysis for Postulated Loss of Coolant Accidents | ML12230A034
6.2.1.4 | Mass and Energy Release Analysis for Postulated Secondary System Pipe Ruptures | ML12230A037
6.2.2 | Containment Heat Removal Systems | ML12276A118
6.2.4 | Containment Isolation System | ML12276A120
6.2.5 | Combustible Gas Control in Containment | ML12276A124
6.2.6 | Containment Leakage Testing | ML12276A127
6.2.7 | Fracture Prevention of Containment Pressure Boundary | ML12278A103
6.4 | Control Room Habitability System | ML12272A225
6.6 | Inservice Inspection and Testing of Class 2 and 3 Components | ML12284A064
BTP 6-1 | PH for Emergency Coolant Water for Pressurized Water Reactors | ML12222A198
BTP 6-2 | Minimum Containment Pressure Model for PWR ECCS Performance Evaluation | ML12227A380
BTP 6-4 | Containment Purging During Normal Plant Operations | ML12227A384
7.0 (DSRS) | Instrumentation and Controls—Introduction and Overview of Review Process | ML12314A197
7.1 (DSRS) | Instrumentation and Controls—Fundamental Design Principles | ML12313A479
7.2 (DSRS) | Instrumentation and Controls—System Characteristics | ML12314A201
7.0 APP A (DSRS) | Instrumentation and Controls—Hazard Analysis | ML12318A200
7.0 APP B (DSRS) | Instrumentation and Controls—System Architecture | ML12318A201
7.0 APP C (DSRS) | Instrumentation and Controls—Simplicity | ML12318A204
7.0 APP D (DSRS) | Instrumentation and Controls—References | ML12318A205
8.1 | Electric Power/Introduction | ML12269A005
8.2 | Offsite Power System | ML12269A006
8.3.1 | A C Power Systems (Onsite) | ML12269A010
8.3.2 | D C Power Systems (Onsite) | ML12269A011
8.4 | Station Blackout | ML12269A015
BTP 8-2 | Use of Diesel-Generator Sets for Peaking | ML12269A016
BTP 8-3 | Stability of Offsite Power Systems | ML12269A017
BTP 8-6 | Adequacy of Station Electric Distribution System Voltages | ML12269A018
9.1.3 | Spent Fuel Pool Cooling and Cleanup System | ML12319A063
9.2.1 | Station Service Water System | ML12319A068
9.2.2 | Reactor Auxiliary Cooling Water Systems | ML12325A088
9.2.4 | Potable and Sanitary Water Systems | ML12319A091
9.2.5 | Ultimate Heat Sink | ML12319A423
9.2.6 | Condensate Storage Facilities | ML12270A276
9.3.2 | Process and Post Accident Sampling Systems | ML12170A005
9.3.3 | Equipment and Floor Drainage System | ML12319A437
9.4.1 | Control Room Area Ventilation System | ML12276A130
9.4.2 | Spent Fuel Pool Area Ventilation System | ML12272A229
9.4.3 | Reactor Service Building HVAC Systems | ML12276A133
9.4.4 | Turbine Area Ventilation System | ML12221A117
9.5.2 | Communications Systems | ML12277A361
9.5.3 | Lighting Systems | ML12319A516
10.2 | Turbine Generator | ML12320A111
10.2.3 | Turbine Rotor Integrity | ML12272A247
10.3 | Main Steam Supply System | ML12320A134
10.3.6 | Steam and Feedwater System Materials | ML12272A004
10.4.1 | Main Condensers | ML12320A139
10.4.2 | Main Condenser Evacuation System | ML12320A146
10.4.3 | Turbine Gland Sealing System | ML12320A157
10.4.4 | Turbine Bypass System | ML12320A161
10.4.5 | Circulating Water System | ML12320A172
10.4.6 | Condensate Cleanup System | ML12272A242
10.4.7 | Condensate and Feedwater System | ML12320A183
11.1 | Source Terms | ML12222A292
11.2 | Liquid Waste Management Systems | ML12257A228
11.3 | Gaseous Waste Management Systems | ML12257A227
11.4 | Solid Waste Management Systems | ML12257A223
11.5 | Process and Effluent Radiological Monitoring Instrumentation and Sampling Systems | ML12258A115
11.6 | Guidance on Instrumentation and Control Design Features for Process and Effluent Radiological Monitoring, and Area Radiation and Airborne Radioactivity Monitoring | ML13023A089
BTP 11-3 | Design Guidance for Solid Radioactive Waste Management Systems Installed in Light-Water -Cooled Nuclear Power Reactor Plants | ML12222A293
BTP 11-5 | Postulated Radioactive Releases Due to a Waste Gas System Leak or Failure | ML12222A294
12.1 | Assuring that Occupational Radiation Exposures Are As Low As Is Reasonably Achievable | ML12222A295
12.2 | Radiation Sources | ML12222A296
12.3—12.4 | Radiation Protection Design Features | ML12269A175
12.5 | Operational Radiation Protection Program | ML12257A224
14.2 | Initial Plant Test Program—Design Certification and New License Applicants | ML12121A037
14.3.2 | Structural and Systems Engineering—Inspections, Tests, Analyses, and Acceptance Criteria | ML12272A243
14.3.4 | Reactor Systems—Inspections, Tests, Analyses, and Acceptance Criteria | ML12353A174
14.3.5 | Instrumentation and Controls—Inspections, Tests, Analyses, and Acceptance Criteria | ML12325A091
14.3.6 | Electrical Systems—Inspections, Tests, Analyses, and Acceptance Criteria | ML12320A188
14.3.7 | Plant Systems—Inspections, Tests, Analyses, and Acceptance Criteria | ML12320A195
14.3.8 | Radiation Protection—Inspections, Tests, Analyses, and Acceptance Criteria | ML12257A225
15.0 | Introduction—Transient and Accident Analyses | ML12275A026
15.0.2 | Review of Transient and Accident Analysis Methods | ML12207A098
15.0.3 | Design Basis Accident Radiological Consequence Analyses for Advanced Light Water Reactors | ML12257A226
15.1.5 | Steam System Piping Failures Inside and Outside of Containment | ML12207A108
15.2.1-15.2.5 | Loss of External Load; Turbine Trip; Loss of Condenser Vacuum; Closure of Main Steam Isolation Valve (BWR); and Steam Pressure Regulator Failure (Closed) | ML12319A584
15.2.6 | Loss of Nonemergency AC Power to the Station Auxiliaries | ML12319A587
15.2.7 | Loss of Normal Feedwater Flow | ML12250A248
15.2.8 | Feedwater System Pipe Breaks Inside and Outside Containment (PWR) | ML12319A668
15.3.1-15.3.2 | Loss of Forced Reactor Coolant Flow Including Trip of Pump Motor and Flow Controller Malfunctions | ML12319A585
15.3.3-15.3.4 | Reactor Coolant Pump Rotor Seizure and Reactor Coolant Pump Shaft Break | ML12319A586
15.4.1 | Uncontrolled Control Rod Assembly Withdrawal from a Subcritical or Low Power Startup Condition | ML12240A005
15.4.2 | Uncontrolled Control Rod Assembly Withdrawal at Power | ML12242A102
15.4.10 | Startup of an Inactive Pump or Pumps at an Incorrect Temperature, and Flow Controller Malfunction causing an Increase in Core Flow Rate | ML12261A399
15.5.1-15.5.2 | Inadvertent Operation of ECCS and Reactor Coolant Inventory and Purification System (RCI) Malfunction that Increases Reactor Coolant Inventory | ML12319A575
15.6.1 | Inadvertent Opening of a Pressurizer Safety Valve, or an Automatic Depressurization Valve | ML12250A318
15.6.5 | Loss of Coolant Accidents Resulting From Spectrum of Postulated Piping Breaks Within the Reactor Coolant Pressure Boundary | ML12319A576
15.8 | Anticipated Transients Without Scram | ML12319A577
15.9.A | Thermal Hydraulic Stability | ML12261A042
16.0 | Technical Specifications | ML12270A277

Dated at Rockville, Maryland, this 6th day of May, 2013.
For the Nuclear Regulatory Commission.
Yanely Malave,
Project Manager Small Modular Reactor Licensing Branch 1, Division of Advanced Reactors and Rulemaking, Office of New Reactors.

[FR Doc. 2013-11394 Filed 5-13-13; 8:45 am]

BILLING CODE 7590-01-P